NUCLEAR REGULATORY COMMISSION

[Docket Nos. 50-321 and 50-366]

Southern Nuclear Operating Company, Inc.; Edwin I. Hatch Nuclear Plant, Units 1 and 2, Notice of Availability of the Final Supplement 4 to the Generic Environmental Impact Statement Regarding License Renewal for the Edwin I. Hatch Nuclear Plant, Units 1 and 2

Notice is hereby given that the U.S. Nuclear Regulatory Commission (NRC) has published a final plant-specific Supplement 4 to the Generic Environmental Impact Statement (GEIS), NUREG-1437, regarding the renewal of operating licenses DPR-57 and NPF-5 for the Edwin I. Hatch Nuclear Plant (HNP), Units 1 and 2, for an additional 20 years of operation. The HNP units are operated by the Southern Nuclear Operating Company, Inc. (SNC). HNP is located in Appling County, Georgia. Possible alternatives to the proposed action (license renewal) include no action and reasonable alternative methods of power generation.

In Section 9.3 of the report:

The staff recommends that the Commission determine that the adverse environmental impacts of license renewal for HNP, Units 1 and 2 are not so great that preserving the option of license renewal for energy planning decisionmakers would be unreasonable. This recommendation is based on (1) the analysis and findings in the Generic Environmental Impact Statement for License Renewal of Nuclear Power Plants, NUREG-1437; (2) the ER [Environmental Report] submitted by SNC; (3) consultation with other Federal, State, and local agencies; (4) the staff's own independent review; and (5) the staff's consideration of public comments.

The final Supplement 4 to the GEIS is available electronically for public inspection in the NRC Public Document Room located at One White Flint North, 11555 Rockville Pike (first floor), Rockville, Maryland, or from the Publicly Available Records (PARS) component of NRC's document management system (ADAMS). ADAMS is accessible from the NRC Web site at http://www.nrc.gov/NRC/ADAMS/index.html (the Public Electronic Reading Room).

FOR FURTHER INFORMATION CONTACT: Mr. Andrew J. Kugler, Generic Issues, Environmental, Financial, and Rulemaking Branch, Division of Regulatory Improvement Programs, U.S. Nuclear Regulatory Commission, Washington, DC 20555. Mr. Kugler may be contacted at (301) 415-2828 or by writing to: Andrew J. Kugler, U.S. Nuclear Regulatory Commission, MS 0-11 F1, Washington, DC 20555.

Dated at Rockville, Maryland, this 31 day of May, 2001.
For the Nuclear Regulatory Commission.
David B. Matthews,
Director, Division of Regulatory Improvement Programs, Office of Nuclear Reactor Regulation.

[FR Doc. 01-14975 Filed 6-13-01; 8:45 am]

BILLING CODE 7590-01-P